FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
011263N | Bugatti Freight Int'l (USA) Inc., 150-40 183rd Street, Suite 208, Jamaica, NY 11413 | May 24, 2007.
019662NF | Hemisphere Cargo Corp., dba H Cargo Lines, dba H Cargo Logistics, 10850 NW 21st Street, Ste. 100, Miami, FL 33172 | March 17, 2007.
018113N | UFO International Freight Forwarder Corporation, 15224 West State Street, Westminster, CA 92683 | May 19, 2007.

Sandra L. Kusumoto,
Director, Bureau of Certification and Licensing.

[FR Doc. E7-13033 Filed 7-3-07; 8:45 am]

BILLING CODE 6730-01-P